DEPARTMENT OF TRANSPORTATION

Federal Aviation Administration

Forty-Third Meeting: RTCA Special Committee (206) Aeronautical Information and Meteorological Data Link Services

AGENCY: Federal Aviation Administration (FAA), U.S. Department of Transportation (DOT).

ACTION: Notice of Forty-Third RTCA Special Committee 206 meeting.

SUMMARY: The FAA is issuing this notice to advise the public of the Forty-Third RTCA Special Committee 206 meeting.

DATES: The meeting will be held March 7-11, 2016 from 8:30 a.m.-5:00 p.m.

ADDRESSES: The meeting will be held at Delta Airlines Headquarters, 1010 Delta Boulevard Atlanta, Georgia 30354, Tel: (202) 330-0680.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680.

SUPPLEMENTARY INFORMATION: Pursuant to section 10(a)(2) of the Federal Advisory Committee Act (Pub. L. 92-463, 5 U.S.C., App.), notice is hereby given for a meeting of RTCA Special Committee 206. The agenda will include the following:

Monday, March 7, 2016 (08:30 a.m.-5:00 p.m.)

1. Opening Plenary

a. Opening remarks: DFO, RTCA, Chairman, and Hosts

b. Attendees' introductions

c. Review and approval of meeting agenda

d. Approval of previous meeting minutes (Washington, DC)

e. Action item review

f. PMC Feedback on TOR Changes

i. Kickoff of SG5 FIS-B UAT MOPS

g. Sub-Groups' reports (SG1/6: MASPS, SG4: EDR, & SG7: Winds)

h. Industry presentations

i. Status of EDR Standards—Mike Emanuel

ii. ICAO Information Management Panel—Allan Hart (ICCAIA Advisor)

2. Sub-Groups meetings (1:00 p.m.)

Tuesday, March 8, 2016 (08:30 a.m.-5:00 p.m.)

1. Sub-Groups meetings

Wednesday, March 9, 2016 (08:30 a.m.-5:00 p.m.)

1. Sub-Groups meetings

Thursday, March 10, 2016 (08:30 a.m.-5:00 p.m.)

1. Sub-Groups meetings

Friday, March 11, 2016 (08:30 a.m.-11:00 a.m.)

1. Closing Plenary

a. Sub-Groups' reports

b. Future meetings plans and dates

c. Industry coordination

d. SC-206 action item review

e. Other business

2. Adjourn (11 a.m.)

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on February 22, 2016.
Latasha Robinson,
Management & Program Analyst, NextGen, Enterprise Support Services Division, Federal Aviation Administration.

[FR Doc. 2016-04187 Filed 2-23-16; 4:15 pm]

BILLING CODE 4910-13-P